DEPARTMENT OF COMMERCE

Bureau of Industry and Security

Action Affecting Export Privileges; Yaudat Mustafa Talyi

Renewal and Modification of Order Temporarily Denying Export Privileges

Pursuant to Section 766.24 of the Export Administration Regulations (“EAR”),¹ the Bureau of Industry and Security (“BIS”), U.S. Department of Commerce, through its Office of Export Enforcement (“OEE”), has requested that I renew and modify the order (“TDO”) issued on September 24, 2003, effective September 25, 2003, temporarily denying export privileges of Yaudat Mustafa Talyi, a.k.a. Joseph Talyi, 41, Chamale Cove East, Slidell, Louisiana 70460 (“Talyi”), and International Business Services, Ltd., 700 Gause Boulevard, Suite 304, Slidell, Louisiana 70458, 41 Chamale Cove East, Slidell, Louisiana 70460, and 2301 Covington Highway 190, Slidell, Louisiana 70460 (“IBS”). Pursuant to Sections 766.23 and 766.24(c) of the EAR, the TDO also applies to the following as related persons to Talyi and IBS: Top Oil Tools, Ltd. (“Top Oil”), 41 Chamale Cove East, Slidell, Louisiana 70460; Uni-Arab Engineering and Oil Field Services (“Uni-Arab”), P.O. Box 46112, Abu Dhabi, United Arab Emirates, and, Al-Gaith Tower, Hamden Street, Flat No. 1202, Abu Dhabi, United Arab Emirates; Jaime Radi Mustafa a.k.a. Radi Mustafa (“Radi Mustafa”), 888 Cross Gates Boulevard, Slidell, Louisiana 70458, and Khalidiya, P.O. Box 46112, Abu Dhabi, United Arab Emirates; and Nureddin Shariff Sehweil, a.k.a. Dean Sehweil (“Dean Sehweil”). 888 Cross Gates Boulevard, Slidell, Louisiana 70458, and, 106 Everest Drive, Slidell, Louisiana 70461, and Khalidiya, P.O. Box 46112, Abu Dhabi, United Arab Emirates.

¹ The EAR, which are currently codified at 15 CFR parts 730-774 (2003), are issued under the Export Administration Act of 1979, as amended (50 U.S.C. app. 2401-2420) (2000) (the “Act”). From August 21, 1994 through November 12, 2000, the Act was in lapse. During that period, the President, through Executive Order 12924, which had been extended by successive Presidential Notices, the last of which was August 3, 2000 (3 CFR, 2000 Comp. 397 (2001)), continued the EAR in effect under the International Emergency Economic Powers Act (50 U.S.C. 1701-1707 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 7, 2003 (68 FR 47833 (August 11, 2003)), has continued the EAR in effect under IEEPA.

BIS is requesting that the TDO be renewed as to Talyi for a period of 180 days. BIS is not requesting that the TDO be renewed against Talyi's two companies, Respondent IBS and related person Top Oil, as both were dissolved as corporate entities on February 16, 2004. Further, BIS is not asking that the TDO be renewed as to Uni-Arab, Mustafa and Sehweil as BIS intends to pursue other administrative action against them.

A. Basis for Renewal of the Order Temporarily Denying the Export Privileges of Yaudat Mustafa Talyi, a.k.a. Joseph Talyi

In its March 2, 2004 request, BIS states that based upon new evidence and evidence previously adduced that was the basis for the issuance of the initial order temporarily denying Talyi and two of his companies export privileges on September 30, 2002 order and the March 29, 2003 renewal (as modified on July 23, 2003 to add Uni-Arab, Radi Mustafa, and Dean Sehweil as related persons), it believes that renewal of the TDO as to Talyi is necessary to prevent further violations of U.S. export control laws. The new evidence is that Talyi has pled guilty to two violations of the International Emergency Economic Powers Act for his participation in illegal export transactions and Talyi has tentatively agreed to settle a related BIS administrative enforcement case against him. Specifically, on January 29, 2004, in the United States District Court for the Eastern District of Louisiana, pursuant to a plea agreement, Talyi pled guilty to two felony counts of violating the International Emergency Economic Powers Act for his participation in an export and attempted export of items subject to the EAR from the United States to the United Arab Emirates. Significantly, those export transactions were made after the initial TDO had been issued against Talyi and his two companies and after they had received notice of the denial of export privileges. Talyi's sentencing is schedule for April 28, 2004 and pending sentencing Talyi is free on bail.

The evidence previously submitted by BIS in support its requests for orders temporarily denying export privileges proves that Talyi had exported or participated in the export of items to Libya in violation of the EAR and other U.S. export controls in a manner that was deliberate, covert, and suggested a likelihood that violations would occur again absent a TDO. See 67 FR 62225 (October 4, 2002) and BIS Request for Renewal of TDO, dated September 5, 2003, at 5-7.

Accordingly, I am renewing the order temporarily denying the export privileges of Talyi for a period of 180 days, as I have concluded that a TDO against Talyi continues to be a necessary, in the public interest, to prevent an imminent violation of the EAR.

It is Therefore Ordered: First, that Yaudat Mustafa Talyi, a.k.a. Joseph Talyi, 41 Chamale Cove East, Slidell, Louisiana 70460 (“Talyi”) (the “Denied Person”) may not, directly or indirectly, participate in any way in any transaction involving any commodity, software or technology (hereinafter collectively referred to as “item”) exported or to be exported from the United States that is subject to the Export Administration Regulations (“EAR”), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the EAR, or in any other activity subject to the EAR; or

C. Benefitting in any way from any transaction involving any item exported or to be exported from the United States that is subject to the EAR, or in any other activity subject to the EAR.

Second, that no person may, directly or indirectly, do any of the following:

A. Export or reexport to or on behalf of the Denied Person any item subject to the EAR;

B. Take any action that facilitates the acquisition or attempted acquisition by the Denied Person of the ownership, possession, or control of any item subject to the EAR that has been or will be exported from the United States, including financing or other support activities related to a transaction whereby the Denied Person acquires or attempts to acquire such ownership, possession or control;

C. Take any action to acquire from or to facilitate the acquisition or attempted acquisition from the Denied Person of any item subject to the EAR that has been exported from the United States;

D. Obtain from the Denied Person order in the United States any item subject to the EAR with knowledge or reason to know that the item will be, or is intended to be, exported from the United States; or

E. Engage in any transaction to service any item subject to the EAR that has been or will be exported from the United States and which is owned, possessed or controlled by the Denied Person, or service any item, of whatever origin, that is owned, possessed or controlled by the Denied Person if such service involves the use of any item subject to the EAR that has been or will be exported from the United States. For purposes of this paragraph, servicing means installation, maintenance, repair, modification or testing.

Third, that, in addition to the related person named above, after notice and opportunity for comment as provided in section 766.23 of the EAR, any other person, firm, corporation, or business organization related to the denied person by affiliation, ownership, control, or position of responsibility in the conduct of trade or related services may also be made subject to the provisions of this Order.

Fourth, that this Order does not prohibit any export, reexport, or other transaction subject to the EAR where the only items involved that are subject to the EAR are the foreign-produced direct product of U.S.-origin technology.

In accordance with the provisions of Section 766.24(e) of the EAR, denied persons may, at any time, appeal this Order by filing a full written statement in support of the appeal with the Office of the Administrative Law Judge, U.S. Coast Guard ALJ Docketing Center, 40 South Gay Street, Baltimore, Maryland 21202-4022. A related person may appeal to the Administrative Law Judge at the aforementioned address in accordance with the provisions of Section 766.23(c) of the EAR.

This Order is effective immediately and shall remain in effect for a period of 180 days. A copy of this Order shall be served on Talyi and shall be published in the Federal Register.

Dated: Entered this 19th day of March 2004.
Julie L. Myers,
Assistant Secretary of Commerce for Export Enforcement.

[FR Doc. 04-6691 Filed 3-24-04; 8:45 am]

BILLING CODE 3510-DT-M